DEPARTMENT OF JUSTICE

Notice of Lodging of Consent Decree Under The Comprehensive Environmental Response, Compensation, and Liability Act

Notice is hereby given that on October 31, 2007, a proposed Consent Decree in United States v. Honeywell International, Inc., et al., Civil Action No. 06-00387-MCE-JFM, was lodged with the United States District Court for the Eastern District of California.

In this action the United States sought reimbursement of response costs from Honeywell International, Inc., Alpheus Kaplan and Nehemiah Development Company for costs incurred by EPA at or in connection with the Central Eureka Mine Superfund Site in Amador County, California. The Consent Decree will settle claims against defendants Alpheus Kaplan and Nehemiah Development Company and certain third-party defendants. Pursuant to the Consent Decree, Kaplan/Nehemiah agree to pay the sum of $600,000 and six settling third party defendants agree to pay $121,000 for past response costs incurred at the Site.

The Department of Justice will receive for a period of thirty (30) days from the date of this publication comments relating to the Consent Decree. Comments should be addressed to the Assistant Attorney General, Environment and Natural Resources Division, and either e-mailed to pubcomment.ees.enrd@usdoj.gov or mailed to P.O. Box 7611, U.S. Department of Justice, Washington, DC 20044-7611, and should refer to United States v. Honeywell International, Inc., et al., D.J. Ref. 90-11-3-1692/1.

The Consent Decree may be examined at the Office of the United States Attorney, Eastern District of California, 501 I Street, Sacramento, California 95814, and at U.S. EPA Region IX, 75 Hawthorne Street, San Francisco, California 94105. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20004-7611, or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Henry Friedman,
Assistant Chief, Environmental Enforcement Section, Environment and Natural Resources Division.

[FR Doc. 07-5696 Filed 11-15-07; 8:45 am]

BILLING CODE 4410-15-M